LIBRARY OF CONGRESS

Copyright Office

37 CFR Part 202

Preregistration and Registration of Claims to Copyright

CFR Correction

In Title 37 of the Code of Federal Regulations, revised as of July 1, 2014, on page 614, in § 202.2, in paragraph (b)(1), the second copyright symbol, following the words “. . . or, in the case of a sound recording, the symbol”, is corrected to read “℗”.

[FR Doc. 2015-08383 Filed 4-9-15; 8:45 am]

BILLING CODE 1505-01-D